NATIONAL ARCHIVES AND RECORDS ADMINISTRATION

[NARA-2014-051]

Agency Information Collection Activities: Proposed Collection; Comment Request; Generic Clearance for the Collection of Qualitative Feedback on Agency Service Delivery

AGENCY: National Archives and Records Administration (NARA).

ACTION: Notice of a request for comments regarding a new information collection.

SUMMARY: As part of a Federal Government-wide effort to streamline the process to seek feedback from the public on service delivery, the National Archives and Records Administration (NARA) has submitted a Generic Information Collection Request (Generic ICR): “Generic Clearance for the Collection of Qualitative Feedback on Agency Service Delivery” to OMB for approval under the Paperwork Reduction Act (PRA). NARA welcomes any comments on this information request.

DATES: For consideration as NARA moves forward on this document, comments must be submitted by October 2, 2014.

ADDRESSES: Written comments may be submitted to Mr. Nicholas A. Fraser, Desk Officer for NARA, Office of Management and Budget, New Executive Office Building, Washington, DC 20503; fax: 202-395-5167; or electronically mailed to Nicholas_A._Fraser@omb.eop.gov.

FOR FURTHER INFORMATION CONTACT: To request additional information, please contact Tamee Fechhelm, by telephone at 301-837-1694 or by fax at 301-713-7409.

SUPPLEMENTARY INFORMATION: Title: Generic Clearance for the Collection of Qualitative Feedback on Agency Service Delivery.

Abstract: The information collection activity will gather qualitative customer and stakeholder feedback in an efficient, timely manner, in accordance with NARA's commitment to improving service delivery. By qualitative feedback, we mean information that provides useful insights on perceptions and opinions; not statistical surveys that yield quantitative results that can be generalized to the study population. Qualitative feedback provides insights into customer or stakeholder perceptions, experiences, and expectations, provides an early warning of service issues, or focuses attention on areas where communication, training, or changes in operations might improve delivery of products or services. These collections will allow for ongoing, collaborative, and actionable communications between NARA and its customers and stakeholders, and allow feedback to contribute directly to program management improvement.

This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

NARA received no comments in response to the 60-day notice published in the Federal Register of June 11, 2014 (79 FR 33598 and 33599).

Below, we provide NARA's projected average estimates for the next three years:

Current Actions: OGIS Customer Service Assessment, NRPC Survey of Customer Satisfaction, and Training and Event Evaluations.

Type of Review: Regular.

Affected Public: Individuals and Households, Businesses and Organizations, State, Local or Tribal Government.

Average expected annual number of activities: 20.

Respondents: 25,000.

Annual responses: 1.

Frequency of Response: Once per request.

Average minutes per response: 30.

Burden hours: 12,500.

An agency may not conduct or sponsor, and a person is not required to respond to, a collection of information unless it displays a currently valid Office of Management and Budget control number.

Dated: August 25, 2014.
Swarnali Haldar,
Executive for Information Services/CIO.

[FR Doc. 2014-20818 Filed 8-29-14; 8:45 am]

BILLING CODE 7515-01-P